SMALL BUSINESS ADMINISTRATION

Public Federal Regulatory Enforcement Fairness Hearing; Region II Regulatory Fairness Board

The U.S. Small Business Administration (SBA) Region II Regulatory Fairness Board and the SBA Office of the National Ombudsman will hold a public hearing on Thursday, June 28, 2007, at 10 a.m. The meeting will take place at Middlesex County Regional Chamber of Commerce, 1 Distribution Way, Suite 101, Monmouth Junction, NJ 08852. The purpose of the meeting is to receive comments and testimony from small business owners, small government entities, and small non-profit organizations concerning regulatory enforcement and compliance actions taken by Federal agencies.

Anyone wishing to attend or to make a presentation must contact Harry Menta, in writing or by fax, in order to be placed on the agenda. Harry Menta, Public Affairs Officer, SBA, New Jersey District Office, Two Gateway Center, 15th Floor, Newark, NJ 07102, phone (973) 645-6064 and fax (202) 401-2196, e-mail: Harry.menta@sba.gov.

For more information, see our Web site at http://www.sba.gov/ombudsman.

Matthew Teague,
Committee Management Officer.

[FR Doc. E7-12326 Filed 6-25-07; 8:45 am]

BILLING CODE 8025-01-P